DEPARTMENT OF THE INTERIOR

Bureau of Land Management

[OR-030-1020-PG; G 03-0221]

Resource Advisory Council Call for Nominations

AGENCY: Bureau of Land Management (BLM), Vale District, Interior.

ACTION: Notice of Resource Advisory Council call for nominations.

SUMMARY: The purpose of this notice is to solicit public nominations for two vacancies on the Bureau of Land Management (BLM) Southeast Oregon Resource Advisory Council (RAC). There is a timber industry term in Category One that expires in 2004, and a dispersed recreation term in Category Two that expires in 2005. The RAC provides advice and recommendations to the BLM and the USDA Forest Service on land use planning and management of the public lands located in whole or in part within the Vale, Burns and Lakeview Districts of BLM and the Fremont, Deschutes, Ochoco, and Malheur National Forests. Public nominations will be considered for 30 days after the publication date of this notice.

The Federal Land Policy and Management Act (FLPMA) directs the Secretary of the Interior to involve the public in planning and issues related to management of lands administered by BLM.

Section 309 of FLPMA directs the Secretary to select 10 to 15 member citizen-based advisory councils that are established and authorized consistent with the requirements of the Federal Advisory Committee Act (FACA). As required by the FACA, RAC members appointed to the RAC must be balanced and representative of the various interests concerned with the management of the public lands.

These include three categories: Category One—Holders of federal grazing permits and representatives of energy and mineral development, timber industry, transportation or rights-of-way, off-highway vehicle use, and commercial recreation;

Category Two—Representatives of nationally or regionally recognized environmental and resource conservation organizations, archaeological and historic interests, dispersed recreation, and wild horse and burro groups;

Category Three—Holders of State, county or local elected office, employees of a State agency responsible for management of natural resources, academicians involved in natural sciences, representatives of Indian tribes, and the public-at-large.

Individuals may nominate themselves or others. Nominees for the Southeast Oregon RAC must be residents of Oregon. Forms are available at the Oregon BLM's Web site: http://www.or.blm.gov/SEOR-RAC/form-nomination.pdf. Nominees will be evaluated based on their education, training, and experience and their knowledge of the geographical area of the RAC.

Nominees should have demonstrated a commitment to collaborative resource decision making. All nominations must be accompanied by letters of reference from represented interests or organizations, a completed background information nomination form, as well as any other information that speaks to the nominee's qualifications.

Nominations for this RAC should be sent to: Pam Robbins, State Office, BLM, 333 Southwest 1st Avenue, Portland, OR 97203

DATES: All nominations should be received by the Oregon BLM State Office by September 15, 2003.

FOR FURTHER INFORMATION CONTACT: Pam Robbins, P. O. Box 2965, Portland, OR 97208; (503) 808-6306; or pam_robbins@or.blm.gov.

Dated: July 3, 2003.
Sandy Guches,
Associate District Manager.

[FR Doc. 03-17431 Filed 7-9-03; 8:45 am]

BILLING CODE 4310-33-P